GENERAL SERVICES ADMINISTRATION

Establishment of a Transaction Fee for transportation services provided for the GSA, Office of Global Supply (FL).

AGENCY: Federal Acquisition Service, GSA.

ACTION: Notice requesting comments; Extension of comment period.

SUMMARY: GSA is extending the comment period ten days for its proposal to change the Freight Management Program (FMP), Standard Tender of Service (STOS), to establish a transaction fee for transportation services provided to the Eastern Distribution Center (EDC), Burlington, NJ, Western Distribution Center (WDC), French Camp, CA, and the National Industries for the Blind (NIB) and National Industries for the Severely Handicapped (NISH). The proposed transaction fee of 4% of the total transportation charges will be deducted from transportation service provider (TSP) invoices prior to payment via the GSA Transportation Management Services Solution (TMSS). The notice was previously published in the Federal Register at 70 FR 73248, December 9, 2005.

DATES: The comment period has been extended. Please submit comments by January 23, 2005.

ADDRESSES: Mail comments to General Services Administration, Federal Acquisition Service, Travel and Transportation Management Division (FBL), 1901 South Bell Street, Crystal Mall Building 4, Room 812, Arlington, VA 22202, Attention: Ms. Mary Anne Sykes (Re: Federal Register comments)

FOR FURTHER INFORMATION CONTACT: Ms. Mary Anne Sykes, Transportation Programs Branch, by telephone at 703 605-2889 or by e-mail at transportation.programs@gsa.gov.

Dated: December 20, 2005.
Tauna T. Delmonico,
Director, Travel and Transportation Management Division (FBL), GSA.

[FR Doc. E5-7831 Filed 12-23-05; 8:45 am]

BILLING CODE 6820-89-S